DEPARTMENT OF COMMERCE

International Trade Administration

[A-570-890]

Wooden Bedroom Furniture From the People's Republic of China: Final Results and Final Rescission in Part

AGENCY: Import Administration, International Trade Administration, Department of Commerce.

SUMMARY: On February 5, 2010, the Department of Commerce (Department) published in the Federal Register its preliminary results of the administrative review of the antidumping duty order on wooden bedroom furniture (WBF) from the People's Republic of China (PRC), covering the period January 1, 2008 through December 31, 2008.¹ Further, on April 28, 2010, the Department issued a memorandum addressing Nanjing Nanmu Furniture Co., Ltd.'s (Nanjing Nanmu) claim of no shipments.² Finally, on July 14, 2010, the Department issued a memorandum informing parties that the Department was reconsidering the valuation of wage rates.³ We gave the interested parties an opportunity to comment on the Preliminary Results. After reviewing the interested parties' comments, we made changes to our calculations for these final results of the review. The final dumping margin for this review is listed in the “Final Results of the Review” section below.

¹ See Wooden Bedroom Furniture From the People's Republic of China: Preliminary Results of Antidumping Duty Administrative Review and Intent To Rescind Review in Part, 75 FR 5952 (February 5, 2010) (Preliminary Results).

² See the April 28, 2010, Memorandum for Edward C. Yang, Acting Deputy Assistant Secretary for Antidumping and Countervailing Duty Operations Regarding Claim of No Shipments (Nanmu No Shipments Memo).

³ See the July 14, 2010, memorandum to the file entitled “Labor Wage Rate” (Wage Rate Notification).

DATES: Effective Date: August 18, 2010.

FOR FURTHER INFORMATION CONTACT: Jeff Pedersen, AD/CVD Operations, Office 4, Import Administration, International Trade Administration, U.S. Department of Commerce, 14th Street and Constitution Avenue, NW., Washington, DC 20230; telephone: (202) 482-2769.

Background

Following publication of the Preliminary Results, on March 23, 2010, Great Rich (HK) Enterprises Co., Limited, Coronal Enterprises Co., Ltd., Dongguan Wanhengtong Industry Co., Ltd., Season Furniture Manufacturing Co., Ltd., and Season Industrial Development Co., Ltd. submitted comments in lieu of a formal case brief. Other interested parties, including Petitioners ⁴ and Fairmont,⁵ submitted case and rebuttal briefs on April 9, 2010, and April 20, 2010, respectively. In addition, the Coalition ⁶ submitted a case brief on April 9, 2010. On April 28, 2010, we rejected a portion of Fairmont's rebuttal brief due to the inclusion of untimely new information. On April 30, 2010, Fairmont resubmitted its rebuttal brief with the new information excluded.

⁴ Petitioners include American Furniture Manufactures Committee for Legal Trade and Vaughan-Bassett Furniture Company, Inc. (Petitioners).

⁵ Comprised collectively of Dongguan Sunrise Furniture Co., Ltd., Taicang Sunrise Wood Industry Co., Ltd. (TCSR), Taicang Fairmount Designs Furniture Co., Ltd.; and, Meizhou Sunrise Furniture Co., Ltd. (Fairmont).

⁶ Comprised of Coaster Company of America, Emerald Home Furnishings, LLC, Trade Masters of Texas, Inc. and Star International Furniture, Inc. (Coalition).

On April 28, 2010, the Department issued the Nanmu No Shipments Memo addressing Nanjing Nanmu's claim of no shipments.⁷ On May 5, 2010, Petitioners submitted their case brief concerning Nanjing Nanmu. On May 10, 2010, Nannjing Nanmu submitted a rebuttal brief. On May 25, 2010, the Department extended the deadline for the final results of the instant administrative review to August 11, 2010.⁸ On June 9, 2010, the Department received a letter from the PRC government commenting on the Preliminary Results. The Department responded to this letter on June 17, 2010.⁹ On July 14, 2010, the Department issued the Wage Rate Notification. Interested parties submitted case and rebuttal briefs on July 19, 2010, and July 22, 2010, respectively. On July 29, 2010, pursuant to requests by Fairmont and Petitioners, the Department held a hearing.¹⁰

⁷ See Nanmu No Shipments Memo.

⁸ See Wooden Bedroom Furniture from the People's Republic of China: Extension of Time Limit for the Final Results of the Antidumping Duty Administrative Review, 75 FR 29313 (May 25, 2010).

⁹ See the June 30, 2010 memorandum to the file entitled “Correspondence between the Bureau of Fair Trade for Imports & Exports and Import Administration.”

¹⁰ See August 5, 2010 Transcript of the July 29, 2010 hearing.

Analysis of Comments Received

All issues raised in the case and rebuttal briefs by parties in these reviews are addressed in the Memorandum from Edward C. Yang, Acting Deputy Assistant Secretary for Antidumping and Countervailing Duty Operations, to Ronald K. Lorentzen, Deputy Assistant Secretary for Import Administration, “Issues and Decision Memorandum for the Final Results of the Administrative Review of the Antidumping Duty Order on Wooden Bedroom Furniture from the People's Republic of China,” dated August 11, 2010, which is hereby adopted by this notice (Issues and Decision Memorandum). A list of the issues which parties raised and to which we respond in the Issues and Decision Memorandum is attached to this notice as Appendix I. The Issues and Decision Memorandum is a public document and is on file in the Central Records Unit, Main Commerce Building, Room 1117, and is accessible on the Web at http://ia.ita.doc.gov/frn. The paper copy and electronic version of the memorandum are identical in content.

Changes Since the Preliminary Results

Based on an analysis of the comments received, the Department has made certain changes in the margin calculations. For the final results, the Department has made the following changes:

Surrogate Values ¹¹

¹¹ For all changes to surrogate values, see the August 11, 2009 Final Results Surrogate Value Memorandum.

• We have valued TCSR's miscellaneous veneer using an average of Philippine imports of Harmonized Tariff Schedule (HTS) subheadings 4408.39.90 and 4408.31. See Comment 3 of the Issues and Decision Memorandum.

• We have valued Fairmont's plywood inputs based on Philippine imports of HTS subheading 4412.14. Because these imports are from 2007, we have inflated them. See Comment 4 of the Issues and Decision Memorandum.

• We have valued Fairmont's curve panel inputs based on Philippine imports of HTS subheading 9403.90. See Comment 5 of the Issues and Decision Memorandum.

• We have valued Fairmont's expanded polyethylene sheet inputs based on Philippine imports of HTS subheading 3921.19.19. See Comment 6 of the Issues and Decision Memorandum.

• We have valued Fairmont's purchased bon feet using Philippine imports under HTS subheading 4421.90.99. See Comment 7 of the Issues and Decision Memorandum.

• We have valued Fairmont's particle board inputs based on India's imports of HTS subheading 4410.11.10 and 4410.31. See Comment 21 of the Issues and Decision Memorandum.

• We have based the surrogate value of Fairmont's brokerage and handling charges on the World Bank's Doing Business in the Philippines Report. See Comment 22 of the Issues and Decision Memorandum.

• We have valued Fairmont's glass inputs based on Philippine imports of HTS subheading 7005.10.90, excluding the imports from Japan. See Comment 25 of the Issues and Decision Memorandum.

• We have valued Fairmont's water-based polymer isocyanate adhesive based on Philippine imports of HTS subheading 3506.91. See Comment 11 of the Issues and Decision Memorandum.

• We have valued Fairmont's inland freight expenses using Indian Infobanc data. See Comment 12 of the Issues and Decision Memorandum.

• We have revised the surrogate wage rate. See Comment 34 of the Issues and Decision Memorandum.

• We have recalculated surrogate financial ratios based on the record financial statements providing the best available information. See Comment 30 of the Issues and Decision Memorandum.

Ministerial Errors ¹²

¹² For all corrections to ministerial errors, see the August 11, 2009 Final Results Analysis Memorandum (Final Results Analysis Memo).

• We have corrected coding errors in our calculation of the Preliminary Results and thereby incorporated all changes in the database submitted by Fairmont regarding its minor corrections to products for which it had previously weight-averaged certain fields based on the incorrect physical characteristic codes and control numbers. See Comment 10 of the Issues and Decision Memorandum.

• When converting Fairmont's consumption of poly vinyl chloride (PVC) veneer from square meters to kilograms, we have relied on a weighted-average measurement from all of Fairmont's period of review (POR) purchases of PVC veneer in its October 14, 2009 submission at Exhibit FD-SE-3D-49. See Comment 8 of the Issues and Decision Memorandum.

• We have applied the minor corrections reported by Fairmont at verification that were incorrectly applied to international freight and applied them to other transportation costs. See Comment 10 of the Issues and Decision Memorandum.

• We have valued marine insurance purchased from market economy suppliers in market economy prices for market economy purchases where Fairmont, not the seller, incurred this charge based on the amounts reported by Fairmont. See Comment 13 of the Issues and Decision Memorandum.

• For all CEP sales, we have included interest expenses in the indirect selling ratio only in the amount that it exceeded inventory carrying costs and credit expenses. See Comment 32 of the Issues and Decision Memorandum.

• We have included freight costs in the denominator of Fairmont's indirect selling ratio. See Comment 27 of the Issues and Decision Memorandum.

• We have removed the imports of HTS subheading 4421.90.99 with a unit of measure other than kilograms from the surrogate value calculation for pull knob wood, wood plugs, and bun feet. See Comment 28 of the Issues and Decision Memorandum.

Other Changes ¹³

¹³ For all other changes, see the Final Results Analysis Memo.

• For all CEP sales, we have calculated inventory carrying costs based only on the time period between entry date and the reported date of shipment to the customer. See Comment 29 of the Issues and Decision Memorandum.

• For those sales for which Fairmont did not know the actual entered value, we have estimated entered value based on Fairmont's submitted sales information. See Comment 17 of the Issues and Decision Memorandum.

• Because we have determined that they are not subject merchandise, we have removed all side tables from the calculation of the value of unreported sales. See Comment 31 of the Issues and Decision Memorandum.

• The Department has rescinded the review with respect to Shanghai Sunrise Furniture Co., Ltd. (Shanghai Sunrise) and Fairmont Designs and removed these companies' names from the companies listed under Fairmont's rate in the U.S. Customs and Border Protection (CBP) module. Reviews for these companies were initiated together with Dongguan Sunrise Furniture Co. and Taicang Sunrise Wood Industry Co., Ltd. However, the Department later determined that Shanghai Sunrise ¹⁴ no longer existed and Fairmont Designs was not located in the PRC.¹⁵

¹⁴ See the October 8, 2009 memorandum to John Andersen entitled “Affiliation and Single Entity Status of Dongguan Sunrise Furniture Co., Ltd., Taicang Sunrise Wood Industry Co., Ltd., Taicang Fairmount Designs Furniture Co., Ltd., and Meizhou Sunrise Furniture Co., Ltd.”

¹⁵ See the February 1, 2010, memoranda entitled Verification at Cambium Business Group, Inc. (d.b.a. Fairmont) in the 4th Antidumping Duty Administrative Review of Wooden Bedroom Furniture from the People's Republic of China”.

• We have determined that Nanjing Nanmu made unreported sales of subject merchandise during the POR, and as a result there is no basis to rescind the review with respect to Nanjing Nanmu. In addition, we have determined that Nanjing Nanmu did not demonstrate its eligibility for a separate rate. Thus, we are treating Nanjing Nanmu as part of the PRC-wide Entity and because of the failure of the PRC-wide Entity to cooperate to the best of its ability in reporting sales of subject merchandise we have applied adverse facts available (AFA) to this entity, which includes Nanjing Nanmu.¹⁶

¹⁶ See Issues and Decision Memorandum at Comment 33.

Period of Review

The POR is January 1, 2008, through December 31, 2008.

Scope of the Order

The product covered by the order is WBF which is generally, but not exclusively, designed, manufactured, and offered for sale in coordinated groups, or bedrooms, in which all of the individual pieces are of approximately the same style and approximately the same material and/or finish. The subject merchandise is made substantially of wood products, including both solid wood and also engineered wood products made from wood particles, fibers, or other wooden materials such as plywood, strand board, particle board, and fiberboard, with or without wood veneers, wood overlays, or laminates, with or without non-wood components or trim such as metal, marble, leather, glass, plastic, or other resins, and whether or not assembled, completed, or finished.

The subject merchandise includes the following items: (1) Wooden beds such as loft beds, bunk beds, and other beds; (2) wooden headboards for beds (whether stand-alone or attached to side rails), wooden footboards for beds, wooden side rails for beds, and wooden canopies for beds; (3) night tables, night stands, dressers, commodes, bureaus, mule chests, gentlemen's chests, bachelor's chests, lingerie chests, wardrobes, vanities, chessers, chifforobes, and wardrobe-type cabinets; (4) dressers with framed glass mirrors that are attached to, incorporated in, sit on, or hang over the dresser; (5) chests-on-chests,¹⁷ highboys,¹⁸ lowboys,¹⁹ chests of drawers,²⁰ chests,²¹ door chests,²² chiffoniers,²³ hutches,²⁴ and armoires;²⁵ (6) desks, computer stands, filing cabinets, bookcases, or writing tables that are attached to or incorporated in the subject merchandise; and (7) other bedroom furniture consistent with the above list.

¹⁷ A chest-on-chest is typically a tall chest-of-drawers in two or more sections (or appearing to be in two or more sections), with one or two sections mounted (or appearing to be mounted) on a slightly larger chest; also known as a tallboy.

¹⁸ A highboy is typically a tall chest of drawers usually composed of a base and a top section with drawers, and supported on four legs or a small chest (often 15 inches or more in height).

¹⁹ A lowboy is typically a short chest of drawers, not more than four feet high, normally set on short legs.

²⁰ A chest of drawers is typically a case containing drawers for storing clothing.

²¹ A chest is typically a case piece taller than it is wide featuring a series of drawers and with or without one or more doors for storing clothing. The piece can either include drawers or be designed as a large box incorporating a lid.

²² A door chest is typically a chest with hinged doors to store clothing, whether or not containing drawers. The piece may also include shelves for televisions and other entertainment electronics.

²³ A chiffonier is typically a tall and narrow chest of drawers normally used for storing undergarments and lingerie, often with mirror(s) attached.

²⁴ A hutch is typically an open case of furniture with shelves that typically sits on another piece of furniture and provides storage for clothes.

²⁵ An armoire is typically a tall cabinet or wardrobe (typically 50 inches or taller), with doors, and with one or more drawers (either exterior below or above the doors or interior behind the doors), shelves, and/or garment rods or other apparatus for storing clothes. Bedroom armoires may also be used to hold television receivers and/or other audio-visual entertainment systems.

The scope of the order excludes the following items: (1) Seats, chairs, benches, couches, sofas, sofa beds, stools, and other seating furniture; (2) mattresses, mattress supports (including box springs), infant cribs, water beds, and futon frames; (3) office furniture, such as desks, stand-up desks, computer cabinets, filing cabinets, credenzas, and bookcases; (4) dining room or kitchen furniture such as dining tables, chairs, servers, sideboards, buffets, corner cabinets, china cabinets, and china hutches; (5) other non-bedroom furniture, such as television cabinets, cocktail tables, end tables, occasional tables, wall systems, bookcases, and entertainment systems; (6) bedroom furniture made primarily of wicker, cane, osier, bamboo or rattan; (7) side rails for beds made of metal if sold separately from the headboard and footboard; (8) bedroom furniture in which bentwood parts predominate;²⁶ (9) jewelry armoires;²⁷ (10) cheval mirrors;²⁸ (11) certain metal parts;²⁹ (12) mirrors that do not attach to, incorporate in, sit on, or hang over a dresser if they are not designed and marketed to be sold in conjunction with a dresser as part of a dresser-mirror set; (13) upholstered beds ³⁰ and (14) toy boxes.³¹

²⁶ As used herein, bentwood means solid wood made pliable. Bentwood is wood that is brought to a curved shape by bending it while made pliable with moist heat or other agency and then set by cooling or drying. See Customs' Headquarters' Ruling Letter 043859, dated May 17, 1976.

²⁷ Any armoire, cabinet or other accent item for the purpose of storing jewelry, not to exceed 24 inches in width, 18 inches in depth, and 49 inches in height, including a minimum of 5 lined drawers lined with felt or felt-like material, at least one side door (whether or not the door is lined with felt or felt-like material), with necklace hangers, and a flip-top lid with inset mirror. See Issues and Decision Memorandum from Laurel LaCivita to Laurie Parkhill, Office Director, Concerning Jewelry Armoires and Cheval Mirrors in the Antidumping Duty Investigation of Wooden Bedroom Furniture from the People's Republic of China, dated August 31, 2004. See also Wooden Bedroom Furniture from the People's Republic of China: Final Changed Circumstances Review, and Determination To Revoke Order in Part, 71 FR 38621 (July 7, 2006).

²⁸ Cheval mirrors are any framed, tiltable mirror with a height in excess of 50 inches that is mounted on a floor-standing, hinged base. Additionally, the scope of the order excludes combination cheval mirror/jewelry cabinets. The excluded merchandise is an integrated piece consisting of a cheval mirror, i.e., a framed tiltable mirror with a height in excess of 50 inches, mounted on a floor-standing, hinged base, the cheval mirror serving as a door to a cabinet back that is integral to the structure of the mirror and which constitutes a jewelry cabinet lined with fabric, having necklace and bracelet hooks, mountings for rings and shelves, with or without a working lock and key to secure the contents of the jewelry cabinet back to the cheval mirror, and no drawers anywhere on the integrated piece. The fully assembled piece must be at least 50 inches in height, 14.5 inches in width, and 3 inches in depth. See Wooden Bedroom Furniture From the People's Republic of China: Final Changed Circumstances Review and Determination To Revoke Order in Part, 72 FR 948 (January 9, 2007).

²⁹ Metal furniture parts and unfinished furniture parts made of wood products (as defined above) that are not otherwise specifically named in this scope (i.e., wooden headboards for beds, wooden footboards for beds, wooden side rails for beds, and wooden canopies for beds) and that do not possess the essential character of wooden bedroom furniture in an unassembled, incomplete, or unfinished form. Such parts are usually classified under the Harmonized Tariff Schedule of the United States (HTSUS) subheading 9403.90.7000.

³⁰ Upholstered beds that are completely upholstered, i.e., containing filling material and completely covered in sewn genuine leather, synthetic leather, or natural or synthetic decorative fabric. To be excluded, the entire bed (headboards, footboards, and side rails) must be upholstered except for bed feet, which may be of wood, metal, or any other material and which are no more than nine inches in height from the floor. See Wooden Bedroom Furniture from the People's Republic of China: Final Results of Changed Circumstances Review and Determination to Revoke Order in Part, 72 FR 7013 (February 14, 2007).

³¹ To be excluded the toy box must: (1) Be wider than it is tall; (2) have dimensions within 16 inches to 27 inches in height, 15 inches to 18 inches in depth, and 21 inches to 30 inches in width; (3) have a hinged lid that encompasses the entire top of the box; (4) not incorporate any doors or drawers; (5) have slow-closing safety hinges; (6) have air vents; (7) have no locking mechanism; and (8) comply with American Society for Testing and Materials (ASTM) standard F963-03. Toy boxes are boxes generally designed for the purpose of storing children's items such as toys, books, and playthings. See Wooden Bedroom Furniture from the People's Republic of China: Final Results of Changed Circumstances Review and Determination to Revoke Order in Part, 74 FR 8506 (February 25, 2009). Further, as determined in the scope ruling memorandum “Wooden Bedroom Furniture from the People's Republic of China: Scope Ruling on a White Toy Box,” dated July 6, 2009, the dimensional ranges used to identify the toy boxes that are excluded from the wooden bedroom furniture order apply to the box itself rather than the lid.

Imports of subject merchandise are classified under subheading 9403.50.9040 of the HTSUS as “wooden * * * beds” and under subheading 9403.50.9080 of the HTSUS as “other * * * wooden furniture of a kind used in the bedroom.” In addition, wooden headboards for beds, wooden footboards for beds, wooden side rails for beds, and wooden canopies for beds may also be entered under subheading 9403.50.9040 of the HTSUS as “parts of wood” and framed glass mirrors may also be entered under subheading 7009.92.5000 of the HTSUS as “glass mirrors * * * framed.” The order covers all WBF meeting the above description, regardless of tariff classification. Although the HTSUS subheadings are provided for convenience and customs purposes, our written description of the scope of this proceeding is dispositive.

Separate Rates

Companies Granted Separate Rates in the Preliminary Results

In the Preliminary Results, we stated that the following companies demonstrated their eligibility for separate-rate status: (1) Fairmont; (2) Longrange Furniture Co. Ltd.; (3) Langfang Tiancheng Furniture Co., Ltd.; (4) Tianjin Fortune Furniture Co., Ltd.; (5) Baigou Crafts Factory of Fengkai; (6) Zhongshan Gainwell Furniture Co. Ltd. For these final results, we continue to find that evidence placed on the record of this review demonstrates that these companies provided information that shows both a de jure and de facto absence of government control with respect to their respective exports of the merchandise under review and, thus, these companies are eligible for separate-rate status.

With respect to the following companies not selected for individual examination in this review: (1) Shun Feng Furniture Co., Ltd.; (2) COE Ltd.; (3) Transworld (Zhangzhou) Furniture Co. Ltd.; (4) Decca Furniture Ltd., aka Decca; (5) Dongguan Landmark Furniture Products Ltd.; (6) Winny Overseas, Ltd.; (7) Dongguan Yihaiwei Furniture Limited, we continue to grant a separate rate to these companies because these companies are wholly owned by individuals or companies located in a market economy. As wholly foreign-owned companies, we have no evidence indicating that these companies are under the control of the PRC. Therefore, a separate-rate analysis is not necessary to determine whether these companies are independent from government control.³²

³² See Preliminary Results; see also Notice of Final Determination of Sales at Less Than Fair Value: Creatine Monohydrate From the People's Republic of China, 64 FR 71104, 71104-05 (December 20, 1999) (where the Department determined that a respondent that was wholly foreign-owned qualified for a separate rate).

Since the Preliminary Results, no interested parties submitted comments regarding these findings. Therefore, for the final results, we have granted these companies a separate rate.

Companies Not Providing Separate Rate Certifications or Applications

The following 34 companies for which the Department initiated the instant review did not provide a separate rate certification or application and therefore have not demonstrated their eligibility for separate rate status in this administrative review:

• Best King International Ltd.

• Brother Furniture Manufacture Co., Ltd.

• BNBM Co., Ltd. (aka Beijing New Materials Co., Ltd.)

• Classic Furniture Global Co., Ltd.

• Der Cheng Wooden Works of Factory

• Dong Guan Golden Fortune Houseware Co., Ltd.

• Dongguan Chunsan Wood Products Co., Ltd., Trendex Industries Ltd.

• Dongguan Hua Ban Furniture Co., Ltd.

• Dongguan New Technology Import & Export Co., Ltd.

• Dongguan Sunpower Enterprise Co., Ltd.

• Ever Spring Furniture Co. Ltd., S.Y.C Family Enterprise Co., Ltd.

• Furnmart Ltd.

• Green River Wood (Dongguan) Ltd.

• Guangming Group Wumahe Furniture Co., Ltd.

• Hamilton & Spill Ltd.

• Hung Fai Wood Products Factory, Ltd.

• Hwang Ho International Holdings Limited

• Kalanter (Hong Kong) Furniture Company Limited

• King Kei Furniture Factory, King Kei Trading Co., Ltd., Jiu Ching Trading Co., Ltd.

• King Wood Furniture Co., Ltd.

• King's Way Furniture Industries Co., Ltd., Kingsyear Ltd.

• Profit Force Ltd.

• Shenyang Kunyu Wood Industry Co., Ltd.

• Shenzhen Dafuhao Industrial Development Co., Ltd.

• Sino Concord International Corporation

• Starwood Furniture Manufacturing Co. Ltd.

• Top Goal Development Co.

• Union Friend International Trade Co., Ltd.

• Wan Bao Chen Group Hong Kong Co. Ltd.

• Xingli Arts & Crafts Factory of Yangchun

• Yangchen Hengli Co., Ltd.

• Yichun Guangming Furniture Co., Ltd.

• Yongxin Industrial (Holdings) Limited

• Zhong Cheng Furniture Co., Ltd.

In the Preliminary Results, we also found that Inni Furniture and Shanghai Aosen Furniture Co., Ltd., a mandatory respondent, are part of the PRC-Wide entity. Since the Preliminary Results, no interested parties submitted comments regarding our findings regarding all 36 companies listed above. Therefore, for the final results, we continue to treat these entities as part of the PRC-Wide entity.

Since the Preliminary Results, we have determined that Nanjing Nanmu made unreported sales of subject merchandise.³³ Thus, we no longer find a basis to rescind the review with respect to Nanjing Nanmu. Further, Nanmu Nanjing did not provide a separate rate certification or application. Accordingly, we have determined that it is not eligible for a separate rate and we are treating Nanjing Nanmu as part of the PRC-wide entity.³⁴

³³ See Issues and Decision Memorandum at Comment 33.

³⁴ See Issues and Decision Memorandum at Comment 33.

Adverse Facts Available (AFA)

In the Preliminary Results, we noted that in accordance with sections 776(a)(2)(B) and 782(c)(1) of the Act, the use of facts available is appropriate for the PRC-wide entity. The Department assigned the rate of 216.01 percent, the highest rate on the record of any segment of the proceeding to all companies classified under the PRC-wide entity, as AFA.³⁵ As no interested party commented on this determination regarding the PRC-wide entity, we have made no changes from our Preliminary Results with respect to this issue. In addition, the Department has determined that Nanjing Nanmu's actions, as part of the PRC-wide entity, provide an additional basis to apply AFA to the PRC-wide entity.³⁶ In failing to report these sales to the Department, the PRC-wide Entity, which includes Nanjing Nanmu, withheld necessary information within the meaning of section 776(a) of the Act and failed to cooperate to the best of its ability within the meaning of section 776(b) of the Act.³⁷

³⁵ See Preliminary Results.

³⁶ See Issues and Decision Memorandum at Comment 33.

³⁷ See generally, Issues and Decision Memorandum at Comment 33.

Also in the Preliminary Results, we determined that Fairmont failed to report certain sales and thus withheld necessary information within the meaning of section 776(a) of the Act and failed to act to the best of its ability to comply with the Department's requests for information within the meaning of section 776(b) of the Act regarding certain sales and factors of production information for subject merchandise. We therefore applied AFA to its unreported sales, pursuant to section 776(b) of the Act. As partial AFA, we applied to the unreported sales a margin of 216.01 percent. Parties commented both on our decision to apply AFA and on our choice of which AFA rate to apply to Fairmont. After considering these comments, we have continued to apply as AFA to Fairmont's unreported sales a margin of 216.01 percent.³⁸

³⁸ See Issues and Decision Memorandum at Comment 33.

Corroboration of Secondary Information

Section 776(c) of the Act provides that, when the Department relies on secondary information rather than on information obtained in the course of an investigation or review, it shall, to the extent practicable, corroborate that information from independent sources that are reasonably at its disposal. Secondary information is defined as information derived from the petition that gave rise to the investigation or review, the final determination concerning the subject merchandise, or any previous review under section 751 of the Act concerning the subject merchandise.³⁹ Corroborate means that the Department will satisfy itself that the secondary information to be used has probative value.⁴⁰ To corroborate secondary information, the Department will, to the extent practicable, examine the reliability and relevance of the information to be used.⁴¹ Independent sources used to corroborate such evidence may include, for example, published price lists, official import statistics and customs data, and information obtained from interested parties during the particular investigation or review.⁴²

³⁹ See SAA at 870.

⁴⁰ See id.

⁴¹ See Tapered Roller Bearings and Parts Thereof, Finished and Unfinished From Japan, and Tapered Roller Bearings, Four Inches or Less in Outside Diameter, and Components Thereof, From Japan; Preliminary Results of Antidumping Duty Administrative Reviews and Partial Termination of Administrative Reviews, 61 FR 57391, 57392 (November 6, 1996) (unchanged in Tapered Roller Bearings and Parts Thereof, Finished and Unfinished, From Japan, and Tapered Roller Bearings, Four Inches or Less in Outside Diameter, and Components Thereof, From Japan; Final Results of Antidumping Duty Administrative Reviews and Termination in Part, 62 FR 11825 (March 13, 1997)).

⁴² See the SAA at 870; Notice of Preliminary Determination of Sales at Less Than Fair Value: High and Ultra-High Voltage Ceramic Station Post Insulators from Japan, 68 FR 35627, 35629 (June 16, 2003) (unchanged in Notice of Final Determination of Sales at Less Than Fair Value: High and Ultra-High Voltage Ceramic Station Post Insulators from Japan, 68 FR 62560 (November 5, 2003)).

The 216.01 AFA rate that the Department is using in this review is a company-specific rate calculated in the 2004-2005 New Shipper Review of the WBF order.⁴³ No additional information has been presented in the current review which calls into question the reliability of the information. Thus, we have determined this information continues to be reliable. With respect to the relevance aspect of corroboration, the Department will consider information reasonably at its disposal to determine whether a margin continues to have relevance. Where circumstances indicate that the selected margin is not appropriate as AFA, the Department will disregard the margin and determine an appropriate margin.⁴⁴ Similarly, the Department does not apply a margin that has been discredited.⁴⁵ To assess the relevancy of the rate used, the Department compared the transaction-specific margins calculated for Fairmont in the instant administrative review with the 216.01 percent rate calculated in the 2004-2005 New Shipper Review and found that the 216.01 percent margin was within the range of the margins calculated on the record of the instant administrative review. Because the dumping margins used to corroborate the AFA rate do not reflect unusually high dumping margins relative to the calculated rates determined for the cooperating respondent, the Department is satisfied that the dumping margins used for corroborative purposes reflect commercial reality because they are based upon real transactions that occurred during the POR, were subject to verification by the Department, and were sufficient in number both in terms of the number of sales and as a percentage of total sales quantity.⁴⁶

⁴³ See Wooden Bedroom Furniture from the People's Republic of China: Final Results of the 2004-2005 Semi-Annual New Shipper Reviews, 71 FR 70739, 70741 (December 6, 2006)(2004-2005 New Shipper Review).

⁴⁴ See Fresh Cut Flowers From Mexico; Final Results of Antidumping Duty Administrative Review, 61 FR 6812, 6814 (February 22, 1996) (where the Department disregarded the highest margin in that case as adverse best information available (the predecessor to facts available) because the margin was based on another company's uncharacteristic business expense resulting in an unusually high margin).

⁴⁵ See D&L Supply Co. v. United States, 113 F.3d 1220, 1221 (Fed. Cir. 1997) (ruling that the Department will not use a margin that has been judicially invalidated).

⁴⁶ See the August 11, 2009 Corroboration Memorandum.

Since the 216.01 percent margin is within the range of transaction-specific margins on the record of this administrative review, the Department has determined that the 216.01 percent margin continues to be relevant for use as an AFA rate for the PRC-wide entity in this administrative review. Also, because this rate is within the range of Fairmont's transaction-specific margins in this review, we find the rate relevant as applied to Fairmont's unreported sales.

As the adverse margin is both reliable and relevant, the Department has determined that it has probative value. Accordingly, the Department has determined that this rate meets the corroboration criterion established in section 776(c) of the Act. Fairmont has raised arguments with respect to the reliability and relevance of this rate as applied to Fairmont, which are addressed in the accompanying Issues and Decision Memorandum at Comment 31.

Final Partial Rescission of Administrative Review

In the Preliminary Results, the Department announced its intent to rescind the administrative review with respect to the following companies because they all reported that they had made no shipments during the POR.

• Dalian Pretty Home Furniture.

• Dongguan Dihao Furniture Co., Ltd.

• Dongguan Mingsheng Furniture Co., Ltd.

• Dongguan Mu Si Furniture Co., Ltd.

• Dongguan Sunshine Furniture Co., Ltd.

• Fortune Furniture Ltd., Dongguan Fortune Furniture Ltd.

• Foshan Guanqiu Furniture Co., Ltd.

• Fujian Lianfu Forestry Co., Ltd., a.k.a. Fujian Wonder Pacific Inc. (Dare Group)

• Fuzhou Huan Mei Furniture Co., Ltd. (Dare Group)

• Gaomi Yatai Wooden Ware Co., Ltd., Team Prospect International Ltd., Money Gain International Co.

• Golden Well International (HK), Ltd.

• Guangdong New Four Seas Furniture Manufacturing Ltd.

• Guangzhou Lucky Furniture Co. Ltd.

• Jiangsu Dare Furniture Co., Ltd. (Dare Group)

• Macau Youcheng Trading Co., Zhongshan Youcheng Wooden Arts & Crafts Co., Ltd.

• Nantong Yangzi Furniture Co., Ltd.

• Po Ying Industrial Co.

• Qingdao Beiyuan-Shengli Furniture Co., Ltd., Qingdao Beiyuan Industry Trading Co. Ltd.

• Qingdao Shengchang Wooden Co., Ltd.

• Shanghai Fangjia Industry Co., Ltd.⁴⁷

⁴⁷ Shanghai Fangjia's only sales made during the POR were covered by a new shipper review covering the period January 1, 2008, through June 30, 2008 and thus are not subject to this review. See Wooden Bedroom Furniture From the People's Republic of China: Final Results of New Shipper Review, 74 FR 48905 (September 25, 2009).

• Shenzhen Shen Long Hang Industry Co., Ltd.

• Tianjin First Wood Co., Ltd.

• Winmost Enterprises Limited.

• Yeh Brothers World Trade, Inc.⁴⁸

⁴⁸ See the memorandum to Abdelali Elouaradia Director, Office 4 regarding the “2008 Antidumping Duty Administrative Review of Wooden Bedroom Furniture from the People's Republic of China (PRC): Whether to Rescind the Review with Respect to Yeh Brothers World Trade, Inc.” dated November 13, 2009 (in which the Department indicated that it intended to rescind the instant review with respect to Yeh Brothers).

• Zhangzhou XYM Furniture Product Co., Ltd.

We confirmed these companies' claims by issuing a no-shipment inquiry to CBP and examining electronic CBP data. Our examination of shipment data from CBP for the above companies provided no indication that there were no entries of subject merchandise during the POR exported by these companies. We received no response from CBP regarding our no-shipment inquiry, which supports the companies' no-shipment certification. No other parties commented on our preliminary intent to rescind. Thus, there is no information or argument on the record of the current review that warrants reconsidering our preliminary decision to rescind. Therefore, we are rescinding this administrative review with respect to above-listed companies.

Final Results of the Review

We determine that the following weighted-average percentage margins exist for the POR:

Exporter | Antidumping duty percent margin
Dongguan Sunrise Furniture Co., Ltd., Taicang Sunrise Wood Industry Co., Ltd., Taicang Fairmount Designs Furniture Co., Ltd., and Meizhou Sunrise Furniture Co., Ltd | 43.23
Longrange Furniture Co., Ltd | 43.23
Langfang Tiancheng Furniture Co., Ltd | 43.23
Shun Feng Furniture Co., Ltd | 43.23
COE Ltd | 43.23
Tianjin Fortune Furniture Co., Ltd | 43.23
Transworld (Zhangzhou) Furniture Co. Ltd | 43.23
Decca Furniture Ltd., aka Decca | 43.23
Dongguan Landmark Furniture Products Ltd | 43.23
Winny Overseas, Ltd | 43.23
Dongguan Yihaiwei Furniture Limited | 43.23
Baigou Crafts Factory of Fengkai | 43.23
Zhongshan Gainwell Furniture Co. Ltd | 43.23
PRC-Wide Entity ⁴⁹ | 216.01

Assessment Rates

The Department will determine, and CBP shall assess, antidumping duties on all appropriate entries of subject merchandise in accordance with the final results of this review. For assessment purposes, we calculated exporter/importer- (or customer) -specific assessment rates for merchandise subject to this review. Where appropriate, we calculated an ad valorem rate for each importer (or customer) by dividing the total dumping margins for reviewed sales to that party by the total entered values associated with those transactions. For duty-assessment rates calculated on this basis, we will direct CBP to assess the resulting ad valorem rate against the entered customs values for the subject merchandise. Where appropriate, we calculated a per-unit rate for each importer (or customer) by dividing the total dumping margins for reviewed sales to that party by the total sales quantity associated with those transactions. For duty-assessment rates calculated on this basis, we will direct CBP to assess the resulting per-unit rate against the entered quantity of the subject merchandise. Where an importer- (or customer) -specific assessment rate is de minimis (i.e., less than 0.50 percent), the Department will instruct CBP to assess that importer (or customer's) entries of subject merchandise without regard to antidumping duties. We intend to instruct CBP to liquidate entries containing subject merchandise exported by the PRC-wide entity at the PRC-wide rate we determine in the final results of this review. The Department intends to issue appropriate assessment instructions directly to CBP 15 days after publication of the final results of this review.

⁴⁹ As noted above, Shanghai Aosen Furniture Co., Ltd., a mandatory respondent, Inni Furniture, and Nanjing Nanmu are part of the PRC-wide entity.

Cash-Deposit Requirements

The following cash deposit requirements will be effective upon publication of the final results of this administrative review for all shipments of the subject merchandise entered, or withdrawn from warehouse, for consumption on or after the publication date, as provided for by section 751(a)(2)(C) of the Act: (1) For the exporters listed above, the cash deposit rate will be the rates shown for those companies; (2) for previously investigated or reviewed PRC and non-PRC exporters not listed above that have separate rates, the cash deposit rate will continue to be the exporter-specific rate published for the most recent period; (3) for all PRC exporters of subject merchandise which have not been found to be entitled to a separate rate, the cash deposit rate will be the PRC-wide rate of 216.01 percent; and (4) for all non-PRC exporters of subject merchandise which have not received their own rate, the cash deposit rate will be the rate applicable to the PRC exporters that supplied that non-PRC exporter. These deposit requirements shall remain in effect until further notice.

Notification of Interested Parties

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective order (APO) of their responsibility concerning the return or destruction of proprietary information disclosed under the APO in accordance with 19 CFR 351.305(a)(3), which continues to govern business proprietary information in this segment of the proceeding. Timely written notification of the return/destruction of APO materials or conversion to judicial protective order is hereby requested. Failure to comply with the regulations and terms of an APO is a violation which is subject to sanction.

Disclosure

We will disclose the calculations performed within five days of the date of publication of this notice to parties in this proceeding in accordance with 19 CFR 351.224(b).

We are issuing and publishing these final results and notice in accordance with sections 751(a)(1) and 777(i)(1) of the Act.

Dated: August 11, 2010.
Ronald K. Lorentzen,
Deputy Assistant Secretary for Import Administration.

Appendix

Comment 1: Electricity

Comment 2: Water

Comment 3: Miscellaneous Veneer

Comment 4: Plywood

Comment 5: Curve Panel

Comment 6: Expanded Polyethylene Sheet

Comment 7: Bon Feet

Comment 8: Poly Vinyl Chloride Veneer

Comment 9: Name Corrections

Comment 10: Ministerial Errors

Comment 11: Water-Based Polymer Isocyanate

Comment 12: Inland Freight

Comment 13: Marine Insurance

Comment 14: Indirect Selling Expenses

Comment 15: Gross vs. Net Weight

Comment 16: Shipment Basis for Valuing Inputs

Comment 17: Assessment Rates

Comment 18: Identification in the Customs Module

Comment 19: Combination Rates

Comment 20: Duty Absorption with Regard to the Separate Rate Respondents

Comment 21: Particle Board

Comment 22: Brokerage and Handling

Comment 23: Veneered Boards

Comment 24: Treatment of Negative Margins

Comment 25: Glass

Comment 26: Freight Revenue

Comment 27: Calculation of the Indirect Selling Ratio

Comment 28: Unit of Measure for HTS Subheading 4421.90.99

Comment 29: Inventory Carrying Costs for Direct Shipments

Comment 30: Financial Ratios

Comment 31: Unreported Sales

Comment 32: Credit Expenses and Inventory Carrying Costs

Comment 33: Nanjing Nanmu

Comment 34: Labor

[FR Doc. 2010-20499 Filed 8-17-10; 8:45 am]

BILLING CODE P